DEPARTMENT OF ENERGY

Federal Energy Regulatory Commission

Combined Notice of Filings #1

Take notice that the Commission received the following electric corporate filings:

Docket Numbers: : EC20-78-000.

Applicants: Michigan Electric Transmission Company, LLC, Consumers Energy Company.

Description: Joint Application for Authorization Under Section 203 of the Federal Power Act, et al. of Michigan Electric Transmission Company, LLC, et al.

Filed Date: 7/2/20.

Accession Number: 20200702-5330.

Comments Due: 5 p.m. ET 7/23/20.

Take notice that the Commission received the following exempt wholesale generator filings:

Docket Numbers: EG20-203-000.

Applicants: SR Baxley, LLC.

Description: Notice of Self-Certification of Exempt Wholesale Generator Status of SR Baxley, LLC.

Filed Date: 7/2/20.

Accession Number: 20200702-5344.

Comments Due: 5 p.m. ET 7/23/20.

Docket Numbers: EG20-204-000.

Applicants: Milford Solar I, LLC.

Description: Notice of Self-Certification of Exempt Wholesale Generator Status of Milford Solar I, LLC.

Filed Date: 7/2/20.

Accession Number: 20200702-5388.

Comments Due: 5 p.m. ET 7/23/20.

Take notice that the Commission received the following electric rate filings:

Docket Numbers: ER17-2558-001; ER18-974-002.

Applicants: NTE Ohio, LLC, Carolina Power Partners, LLC.

Description: Triennial Market Power Update for the Northeast Region of NTE Ohio, LLC, et al.

Filed Date: 6/30/20.

Accession Number: 20200630-5509.

Comments Due: 5 p.m. ET 8/31/20.

Docket Numbers: ER20-1472-001.

Applicants: Midcontinent Independent System Operator, Inc., Entergy Services, LLC.

Description: Tariff Amendment: 2020-06-29_Entergy Pension Deficiency Filing to be effective 6/1/2020.

Filed Date: 6/29/20.

Accession Number: 20200629-5402.

Comments Due: 5 p.m. ET 7/20/20.

Docket Numbers: ER20-1728-000.

Applicants: Borrego Solar Systems, Inc.

Description: Motion for Expedited Action and Remedial Relief of Borrego Solar Systems, Inc.

Filed Date: 7/2/20.

Accession Number: 20200702-5379.

Comments Due: 5 p.m. ET 7/7/20.

Docket Numbers: ER20-2134-000.

Applicants: Cimarron Bend Wind Project III, LLC.

Description: Supplement to June 23, 2020 Cimarron Bend Wind Project III, LLC tariff filing.

Filed Date: 7/2/20.

Accession Number: 20200702-5384.

Comments Due: 5 p.m. ET 7/23/20.

Docket Numbers: ER20-2156-000.

Applicants: Midcontinent Independent System Operator, Inc.

Description: Supplement to June 23, 2020 Cimarron Bend Wind Project III, LLC tariff filing.

Filed Date: 7/2/20.

Accession Number: 20200702-5338.

Comments Due: 5 p.m. ET 7/7/20.

Docket Numbers: ER20-2309-000.

Applicants: Public Service Company of Colorado.

Description: § 205(d) Rate Filing: PSCo-Nereo-LGIA-564-0.0.0 to be effective 7/3/2020.

Filed Date: 7/2/20.

Accession Number: 20200702-5215.

Comments Due: 5 p.m. ET 7/23/20.

Docket Numbers: ER20-2311-000.

Applicants: Nevada Power Company.

Description: Compliance filing: OATT Revision to Attachment N 07.02.20 to be effective 5/22/2019.

Filed Date: 7/2/20.

Accession Number: 20200702-5227.

Comments Due: 5 p.m. ET 7/23/20.

Docket Numbers: ER20-2312-000.

Applicants: Southern California Edison Company.

Description: § 205(d) Rate Filing: Amended LGIA Alta 2012 TOT161 SA No. 115 to be effective 7/3/2020.

Filed Date: 7/2/20.

Accession Number: 20200702-5230.

Comments Due: 5 p.m. ET 7/23/20.

Docket Numbers: ER20-2313-000.

Applicants: Boiling Springs Wind Farm, LLC.

Description: Baseline eTariff Filing: Application For Market Based Rate Authority to be effective 8/28/2020.

Filed Date: 7/2/20.

Accession Number: 20200702-5240.

Comments Due: 5 p.m. ET 7/23/20.

Docket Numbers: ER20-2314-000.

Applicants: RWE Renewables QSE, LLC.

Description: Baseline eTariff Filing: Application For Market Based Rate Authority to be effective 8/1/2020.

Filed Date: 7/2/20.

Accession Number: 20200702-5257.

Comments Due: 5 p.m. ET 7/23/20.

Docket Numbers: ER20-2315-000.

Applicants: Tri-State Generation and Transmission Association, Inc.

Description: § 205(d) Rate Filing: Service Agreement No. 886 between Tri-State and Basin Electric to be effective 6/30/2020.

Filed Date: 7/2/20.

Accession Number: 20200702-5259.

Comments Due: 5 p.m. ET 7/23/20.

Docket Numbers: ER20-2316-000.

Applicants: Hillcrest Solar I, LLC.

Description: Baseline eTariff Filing: Baseline new to be effective 7/3/2020.

Filed Date: 7/2/20.

Accession Number: 20200702-5293.

Comments Due: 5 p.m. ET 7/23/20.

Docket Numbers: ER20-2317-000.

Applicants: ISO New England Inc.

Description: Filing of Permanent De-List Bids and Retirement De-List Bids for 2024-25 Forward Capacity Auction (FCA 15) of ISO New England, Inc.

Filed Date: 7/2/20.

Accession Number: 20200702-5317.

Comments Due: 5 p.m. ET 7/23/20.

Docket Numbers: ER20-2318-000.

Applicants: Milford Solar I, LLC.

Description: Baseline eTariff Filing: Baseline new to be effective 8/11/2020.

Filed Date: 7/2/20.

Accession Number: 20200702-5334.

Comments Due: 5 p.m. ET 7/23/20.

Docket Numbers: ER20-2319-000.

Applicants: NorthWestern Corporation.

Description: Notice of Option to Suspend Transmission Service of NorthWestern Corporation.

Filed Date: 7/1/20.

Accession Number: 20200701-5547.

Comments Due: 5 p.m. ET 7/22/20.

Docket Numbers: ER20-2320-000.

Applicants: PJM Interconnection, L.L.C.

Description: § 205(d) Rate Filing: PJM submits Revisions to PJM Tariff re: Surety Bonds to be effective 9/1/2020.

Filed Date: 7/2/20.

Accession Number: 20200702-5375.

Comments Due: 5 p.m. ET 7/23/20.

Docket Numbers: ER20-2321-000.

Applicants: San Diego Gas & Electric Company.

Description: Initial rate filing: Narrows Exchange Agreement to be effective 6/2/2020.

Filed Date: 7/6/20.

Accession Number: 20200706-5017.

Comments Due: 5 p.m. ET 7/27/20.

Docket Numbers: ER20-2322-000.

Applicants: Midcontinent Independent System Operator, Inc.

Description: Compliance filing: 2020-07-06_SA 3526 OTP-NSP FSA Twin Brooks Station (J436 and J437) to be effective 8/1/2020.

Filed Date: 7/6/20.

Accession Number: 20200706-5064.

Comments Due: 5 p.m. ET 7/27/20.

Docket Numbers: ER20-2323-000.

Applicants: Midcontinent Independent System Operator, Inc.

Description: Compliance filing: 2020-07-06_SA 3074 OTP-MDU-NSP MPFCA 1st Rev Twin Brooks Station (J436 and J437) to be effective 6/30/2020.

Filed Date: 7/6/20.

Accession Number: 20200706-5076.

Comments Due: 5 p.m. ET 7/27/20.

Docket Numbers: ER20-2324-000.

Applicants: Alabama Power Company.

Description: § 205(d) Rate Filing: Hickory Park Solar Amended and Restated LGIA Filing to be effective 6/19/2020.

Filed Date: 7/6/20.

Accession Number: 20200706-5092.

Comments Due: 5 p.m. ET 7/27/20.

Docket Numbers: ER20-2325-000.

Applicants: PJM Interconnection, L.L.C.

Description: Compliance filing: Compliance Filing to Revise PJM Tariff Pseudo-Tie Provisions re: EL19-51 to be effective 9/8/2020.

Filed Date: 7/6/20.

Accession Number: 20200706-5158.

Comments Due: 5 p.m. ET 7/27/20.

Docket Numbers: ER20-2326-000.

Applicants: PJM Interconnection, L.L.C.

Description: Compliance filing: Compliance Filing to Revise PJM Tariff Pseudo-Tie Provisions re: EL19-34 to be effective 9/8/2020.

Filed Date: 7/6/20.

Accession Number: 20200706-5159.

Comments Due: 5 p.m. ET 7/27/20.

Docket Numbers: ER20-2327-000.

Applicants: The Connecticut Light and Power Company.

Description: Tariff Cancellation: Cancelation- NTE Connecticut, LLC ? Engineering Design and Procurement Agreement to be effective 6/16/2020.

Filed Date: 7/6/20.

Accession Number: 20200706-5113.

Comments Due: 5 p.m. ET 7/27/20.

Docket Numbers: ER20-2328-000.

Applicants: Tri-State Generation and Transmission Association, Inc.

Description: § 205(d) Rate Filing: Service Agreement No. 609 between Tri-State and Niyol Wind to be effective 6/25/2020.

Filed Date: 7/6/20.

Accession Number: 20200706-5114.

Comments Due: 5 p.m. ET 7/27/20.

Docket Numbers: ER20-2329-000.

Applicants: Avista Corporation.

Description: § 205(d) Rate Filing: Avista Corp RS T1167 Interconnection and Operating Agreement to be effective 7/7/2020.

Filed Date: 7/6/20.

Accession Number: 20200706-5116.

Comments Due: 5 p.m. ET 7/27/20.

Take notice that the Commission received the following electric securities filings:

Docket Numbers: ES20-41-000.

Applicants: Southern Indiana Gas and Electric Company.

Description: Transmittal Letter to June 30, 2020 Amendments to June 2, 2020 Application Under Section 204 of the Federal Power Act for Authorization to Issue Securities of Southern Indiana Gas and Electric Company, Inc.

Filed Date: 7/1/20.

Accession Number: 20200701-5522.

Comments Due: 5 p.m. ET 7/6/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 6, 2020.
Nathaniel J. Davis, Sr.,
Deputy Secretary.

[FR Doc. 2020-14911 Filed 7-9-20; 8:45 am]

BILLING CODE 6717-01-P